DEPARTMENT OF TRANSPORTATION

Federal Aviation Administration

Proposed Order 8100.9A, DAS, DOA, and SFAR 36 Authorization Procedures

AGENCY: Federal Aviation Administration, DOT.

ACTION: Notice of availability and request for public comments.

SUMMARY: This notice announces the availability of and requests comments on a proposed revision to Order 8100.9, DAS, DOA, and SFAR 36 Authorization Procedures, implementing a new evaluation program for these organizations. This notice is necessary to give all interested persons an opportunity to present their views on the proposed policy.

DATES: Comments must be received on or before June 18, 2004.

ADDRESSES: Send all comments on the proposed revised Order to: Ralph Meyer, Delegation and Airworthiness Programs Branch, P.O. Box 26460, Oklahoma City, OK 73125. Comments may be faxed to: (405) 954-7072 or e-mailed to: ralph.meyer@faa.gov.

FOR FURTHER INFORMATION CONTACT: Ralph Meyer, Aircraft Engineering Division, Airworthiness Programs Branch (AIR-140), P.O. Box 26460, Oklahoma City, OK 73125. Telephone: (405) 954-7072 or FAX: (405) 954-4104.

SUPPLEMENTARY INFORMATION:

Comments Invited

You are invited to comment on the proposed revised Order by submitting such written data, views, or arguments to the address or FAX number listed above. Your comments should identify “Order 8100.9A.” The Associate Administrator for Regulation and Certification will consider all communications received on or before the closing date before issuing the final Order.

Background

The revision to Order 8100.9 establishes a new evaluation program to evaluate all aspects of an authorization holder's performance. Currently, these organizations are evaluated under both the Aircraft Certification Systems Evaluation Program (ACSEP) and Order 8100.9 Technical Evaluations. When implemented, organizations will not be subject to ACSEP evaluations unless warranted by their status as a production approval holder. This proposed revised Order also incorporates the content of Order 8100.12 that pertains to Designated Alteration Station Project Limitations and it also clarifies FAA oversight requirements for delegated organizations.

How To Obtain Copies

You may get a copy of the proposed revised Order from the Internet at: http://www.faa.gov/certification/aircraft/av-info/dst/dds.htm. You may also request a copy from Ralph Meyer. See the section entitled FOR FURTHER INFORMATION CONTACT for the complete address.

Issued in Washington, DC, on May 12, 2004.
David W. Hempe,
Manager, Aircraft Engineering Division, Aircraft Certification Service.

[FR Doc. 04-11304 Filed 5-18-04; 8:45 am]

BILLING CODE 4910-13-M